NATIONAL AERONAUTICS AND SPACE ADMINISTRATION

[Notice 05-060]

NASA Universe Exploration Strategic Roadmap Committee; Meeting by Telephone Conference

AGENCY: National Aeronautics and Space Administration (NASA).

ACTION: Notice of meeting.

SUMMARY: In accordance with the Federal Advisory Committee Act, Public Law 92-463, as amended, the National Aeronautics and Space Administration announces a meeting by teleconference of the NASA Universe Exploration Strategic Roadmap Committee.

DATES: Friday, April 8, 2005, from 3 p.m. to 5 p.m., eastern standard time.

Phone Number: Public Access Listen Only—1-800-358-0735, passcode 8920561.

FOR FURTHER INFORMATION CONTACT: Dr. Michael Salamon, 202-358-0441.

SUPPLEMENTARY INFORMATION: The meeting will be open to the public up to the line capacity of the conference telephone system.

The agenda for the meeting is as follows:

—Discussion of draft interim strategic roadmap.

It is imperative that the meeting be held on these dates to accommodate the scheduling priorities of the key participants.

Dated: March 18, 2005.
P. Diane Rausch,
Advisory Committee Management Officer, National Aeronautics and Space Administration.

[FR Doc. 05-5831 Filed 3-23-05; 8:45 am]

BILLING CODE 7510-13-P